DEPARTMENT OF COMMERCE

International Trade Administration

[A-570-891]

Hand Trucks and Certain Parts Thereof From the People's Republic of China: Preliminary Results of the Antidumping Duty Administrative Review; 2012-2013

AGENCY: Enforcement and Compliance, formerly Import Administration, International Trade Administration, Department of Commerce.

DATES: Effective Date: September 8, 2014.

SUMMARY: The Department of Commerce (the Department) is currently conducting an administrative review of the antidumping duty order on hand trucks and certain parts thereof (hand trucks) from the People's Republic of China (PRC).¹ The period of review (POR) is December 1, 2012, through November 30, 2013. This administrative review covers three exporters of the subject merchandise: New-Tec Integration (Xiamen) Co., Ltd.'s (New-Tec); Yangjiang Shunhe Industrial Co. (Shunhe); and Full Merit Enterprise Limited (Full Merit).

¹ See Notice of Antidumping Duty Order: Hand Trucks and Certain Parts Thereof From the People's Republic of China, 69 FR 70122 (December 2, 2004).

We preliminarily determine that New-Tec's weighted-average dumping margin is zero. We are not making a determination of no shipments with respect to Shunhe (see “No Shipment Certifications,” infra). In addition, we are not rescinding this review with respect to Full Merit at this time (see “Intent Not to Rescind in Part,” infra). We invite interested parties to comment on these preliminary results.

FOR FURTHER INFORMATION CONTACT: Scott Hoefke, or Davina Friedmann, AD/CVD Operations, Office VI, Enforcement and Compliance, International Trade Administration, U.S. Department of Commerce, 14th Street and Constitution Avenue NW., Washington, DC 20230; telephone: (202) 482-4947 or (202) 482-0698, respectively.

SUPPLEMENTARY INFORMATION:

Scope of the Order

The merchandise subject to the order consists of hand trucks manufactured from any material, whether assembled or unassembled, complete or incomplete, suitable for any use, and certain parts thereof, namely the vertical frame, the handling area and the projecting edges or toe plate, and any combination thereof. They are typically imported under heading 8716.80.50.10 of the Harmonized Tariff Schedule of the United States (HTSUS), although they may also be imported under heading 8716.80.50.90 and 8716.90.50.60. Although the HTSUS subheadings are provided for convenience and customs purposes, the written product description is dispositive. A full description of the scope of the order is contained in the Preliminary Decision Memorandum, dated concurrently with and hereby adopted by this notice.²

² See “Decision Memorandum for the Preliminary Results of the Antidumping Duty Administrative Review of Hand Trucks and Certain Parts Thereof from the People's Republic of China; 2012-2013” from Gary Taverman, Associate Deputy Assistant Secretary for Antidumping and Countervailing Duty Operations, to Paul Piquado, Assistant Secretary for Enforcement and Compliance, dated August 28, 2014 (Preliminary Decision Memorandum), issued concurrently with and hereby adopted by this notice.

No Shipments Certification

On April 10, 2014, we received an entry of appearance and certification of no shipments from Shunhe. Also on April 10, 2014, the Department sent an inquiry to U.S. Customs and Border Protection (CBP) to determine whether CBP entry data is consistent with the no shipments certification from Shunhe. The Department received no information contrary to Shunhe's claim of no shipments. Since Shunhe was part of the PRC-wide entity at the outset of this administrative review, and continues to be part of the PRC-wide entity in this administrative review, we are not making a determination of no shipments with respect to Shunhe for the preliminary results of the instant administrative review.

Intent Not To Rescind Review in Part

We have received a timely request for withdrawal of the administrative review request for Full Merit and there is no other review request outstanding for that company. For a company named in the Initiation Notice ³ for which a review request has been withdrawn (in this case, Full Merit), but which has not previously received separate rate status, the Department's practice is to refrain from rescinding the review with respect to that company at this time. While Full Merit's request for review was timely withdrawn, Full Merit remains part of the PRC-wide entity. Although the PRC-wide entity is not under review for these preliminary results, the possibility exists that the PRC-wide entity may be reviewed for the final results of this administrative review.⁴ Therefore, we are not rescinding this review with respect to Full Merit at this time. We intend to rescind this review with respect to Full Merit in the final results if the PRC-wide entity does not come under review for the final results of this administrative review.

³ See Initiation of Antidumping and Countervailing Duty Administrative Reviews and Request for Revocation in Part, 79 FR 6147 (February 3, 2014) (Initiation Notice).

⁴ On November 4, 2013, the Department announced a change in practice for all antidumping administrative reviews for which the notice of opportunity to request an admininstrative review is published on or after December 4, 2014. See Antidumping Proceedings: Announcement of Change in Department Practice for Respondent Selection in Antidumping Duty Proceedings and Conditional Review of the Nonmarket Economy Entity in NME Antidumping Proceedings, 78 FR 65963 (November 4, 2013). The opportunity to request this review published on December 3, 2013; therefore, the changes to the Department's practice are not applicable to this review. See Antidumping or Countervailing Duty Order, Finding, or Suspended Investigation; Opportunity to Request Administrative Review, 78 FR 72636 (December 3, 2013).

Methodology

The Department conducted this review in accordance with section 751(a)(1)(B) of the Tariff Act of 1930, as amended (the Act). For a full description of the methodology underlying our conclusions, please see the Preliminary Decision Memorandum. The Preliminary Decision Memorandum is a public document and is on file electronically via Enforcement and Compliance's Antidumping and Countervailing Duty Centralized Electronic Service System (IA ACCESS). IA ACCESS is available to registered users at http://iaaccess.trade.gov and available to all parties in the Central Records Unit, room 7046 of the main Department of Commerce building. In addition, a complete version of the Preliminary Decision Memorandum can be accessed directly on the Internet at http://enforcement.trade.gov/frn/. The signed Preliminary Decision Memorandum and electronic versions of the Preliminary Decision Memorandum are identical in content.

Preliminary Results of the Review

The Department preliminarily determined that the following dumping margin exists for the period December 1, 2012, through November 30, 2013:

Manufacturer/exporter | Weighted- average margin (percent)
New-Tec Integration (Xiamen) Co., Ltd. | 0.00

Disclosure and Public Comment

The Department intends to disclose to parties to this proceeding the calculations performed in reaching the preliminary results within five days of the date of publication of these preliminary results.⁵ Interested parties may submit case briefs no later than 30 days after the date of publication of the preliminary results.⁶ Rebuttals to case briefs may be filed no later than five days after the deadline for filing case briefs and all rebuttal comments must be limited to comments raised in the case briefs.⁷ Parties who submit case briefs or rebuttal briefs in this proceeding are encouraged to submit with each argument: (1) A statement of the issue; (2) a brief summary of the argument; and (3) a table of authorities.⁸ Case and rebuttal briefs must be filed electronically via IA ACCESS.⁹

⁵ See 19 CFR 351.224(b).

⁶ See 19 CFR 351.309(c)(ii).

⁷ See 19 CFR 351.309 (d).

⁸ See 19 CFR 351.309(c)(2) and (d)(2).

⁹ See 19 CFR 351.303(b).

Any interested party may request a hearing within 30 days of publication of this notice.¹⁰ Hearing requests should contain the following information: (1) The party's name, address and telephone number; (2) the number of participants; and (3) a list of the issues to be discussed. Oral presentations will be limited to issues raised in the case briefs. If a request for a hearing is made, parties will be notified of the date and time for the hearing to be held at the U.S. Department of Commerce, 1401 Constitution Avenue NW., Washington, DC 20230.¹¹

¹⁰ See 19 CFR 351.310(c).

¹¹ See 19 CFR 351.310(d).

The Department intends to issue the final results of this administrative review, including the results of its analysis of the issues raised in any briefs, within 120 days after the publication of these preliminary results, pursuant to section 751(a)(3)(A) of the Act and 19 CFR 351.213(h)(1).

Assessment Rates

Upon issuing the final results of the review, the Department shall determine, and U.S. CBP shall assess, antidumping duties on all appropriate entries covered by this review.¹² The Department intends to issue assessment instructions to CBP 15 days after the date of publication of the final results of review. For any individually examined respondents whose weighted-average dumping margin is above de minimis, we will calculate, where appropriate, either an ad valorem or per-unit assessment rate for each importer (or customer).¹³ The per-unit assessment rate will be based on the ratio of the total amount of dumping calculated for the importer's examined sales to the total entered quantity of those same sales. The ad valorem assessment rate will be based on the ratio of the total amount of dumping calculated for the importer's examined sales to the total entered value of those same sales.

¹² See 19 CFR 351.212(b).

¹³ In these preliminary results, the Department applied the assessment rate calculation method adopted in Antidumping Proceedings: Calculation of the Weighted-Average Dumping Margin and Assessment Rate in Certain Antidumping Proceedings: Final Modification, 77 FR 8101 (February 14, 2012).

We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

On October 24, 2011, the Department announced a refinement to its assessment practice in NME cases.¹⁴ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the PRC-wide rate.¹⁵

¹⁴ For a full discussion of this practice, see Non-Market Economy Antidumping Proceedings: Assessment of Antidumping Duties, 76 FR 65694 (October 24, 2011).

¹⁵ See id.

The final results of this review shall be the basis for the assessment of antidumping duties on entries of merchandise covered by the final results of this review and for future deposits of estimated duties, where applicable.

Cash Deposit Requirements

The following cash deposit requirements, when imposed, will apply to all shipments of subject merchandise entered, or withdrawn from warehouse, for consumption on or after the publication of the final results of this administrative review, as provided by section 751(a)(2)(C) of the Act: (1) The cash deposit rate for New-Tec, which has a separate rate, will be the cash deposit rate established in the final results of this review (except, if the rate is zero or de minimis, then zero cash deposit will be required); (2) for any previously reviewed or investigated PRC and non-PRC exporter not listed above that received a separate rate in a previous segment of this proceeding, the cash deposit rate will continue to be the existing exporter-specific rate; (3) for all PRC exporters that have not been found to be entitled to a separate rate, the cash deposit rate will be that for the PRC-wide entity (i.e., 383.60 percent); and (4) for all non-PRC exporters of subject merchandise which have not received their own rate, the cash deposit rate will be the rate applicable to the PRC exporter that supplied the non-PRC exporter. These cash deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213(h)(1).

Dated: August 28, 2014.
Paul Piquado,
Assistant Secretary for Enforcement and Compliance.

Appendix I

List of Topics Discussed in the Preliminary Decision Memorandum

1. Background

2. Scope of the Order

3. Certification of No Shipments

4. Intent Not To Rescind Review in Part

5. Non-Market-Economy Country Status

6. Separate Rates Determination

7. Absence of De Jure Control

8. Absence of De Facto Control

9. Surrogate Country

10. Fair Value Comparisons

11. U.S. Price

12. Normal Value

13. Factors Valuation

14. Currency Conversion

[FR Doc. 2014-21332 Filed 9-5-14; 8:45 am]

BILLING CODE 3510-DS-P